DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 3, 2009.

Interested persons are invited to submit written comments regarding the subject matter of the investigations to the Director, Division of Trade Adjustment Assistance, at the address shown below, not later than April 3, 2009.

The petitions filed in this case are available for inspection at the Office of the Director, Division of Trade Adjustment Assistance, Employment and Training Administration, U.S. Department of Labor, Room N-5428, 200 Constitution Avenue, NW., Washington, DC 20210.

Signed at Washington, DC, this 18th day of March, 2009.
Linda G. Poole,
Certifying Officer, Division of Trade Adjustment Assistance.

Appendix
TAA Petitions Instituted between 2/16/09 and 2/20/09
TA-W | Subject firm (petitioners) | Location | Date of institution | Date of petition
65256 | Pine Hosiery Mills, Inc. (Comp) | Star, NC | 02/17/09 | 02/13/09
65257 | The Crown Group (Comp) | Detroit, MI | 02/17/09 | 01/13/09
65258 | Shape Corporation (Comp) | Grand Haven, MI | 02/17/09 | 02/16/09
65259 | Chemical Coatings, Inc. (Comp) | Hudson, NC | 02/17/09 | 02/13/09
65260 | McCreary Modern, Inc. Plant #1 (Comp) | Newton, NC | 02/17/09 | 02/13/09
65261 | Dunbar Enterprise, Inc. (IAMAW) | Snohomish, WA | 02/17/09 | 01/30/09
65262 | U.S. Steel Tubular Products, Inc. (USW) | Lone Star, TX | 02/17/09 | 02/15/09
65263 | Kimbal Office (Wkrs) | Bordon, IN | 02/17/09 | 02/13/09
65264 | Auto Truck Transport (Wkrs) | Mt. Holly, NC | 02/17/09 | 02/13/09
65265 | Advanced Energy Industries, Inc.—Austin (Comp) | Austin, TX | 02/17/09 | 02/13/09
65266 | Advanced Energy Industries, Inc.—Vancouver (Comp) | Vanouver, WA | 02/17/09 | 02/13/09
65267 | Advanced Energy Industries, Inc. (Comp) | San Jose, CA | 02/17/09 | 02/13/09
65268 | PHB Machining Division (Comp) | Fairview, PA | 02/17/09 | 02/09/09
65269 | Bates Acquisition, LLC (Comp) | Lobelville, TN | 02/17/09 | 02/17/09
65270 | St. Clair Plastics Company (IAMAW) | Chesterfield Twp., MI | 02/17/09 | 02/13/09
65271 | ACS Cumberland Engineering (Wkrs) | South Attleboro, MA | 02/17/09 | 01/27/09
65272 | The Timken Company (State) | Cairo, GA | 02/17/09 | 02/12/09
65273 | Sherico Cedar Products (Wkrs) | Forks, WA | 02/17/09 | 02/02/09
65274 | Delaco Steel (Comp) | Dearborn, MI | 02/17/09 | 02/13/09
65275 | Alcatel—Lucent (Wkrs) | Westford, MA | 02/17/09 | 01/29/09
65276 | The Mitchell Gold and Bob Williams Co. (Wkrs) | Taylorsville, NC | 02/17/09 | 02/13/09
65277 | Carrollton Specialty Products (Wkrs) | Moberly, MO | 02/17/09 | 02/12/09
65278 | Beck Tool Incorporated (Comp) | Edinboro, PA | 02/18/09 | 02/17/09
65279 | Lenoir Mirror Company (Comp) | Lenoir, NC | 02/18/09 | 02/12/09
65280 | Eaton Corporation (Comp) | Mentor, OH | 02/18/09 | 02/12/09
65281 | Acument Global Technologies (Comp) | Fenton, MI | 02/18/09 | 02/06/09
65282 | Grand Rapids Control (Comp) | Rockford, MI | 02/18/09 | 02/17/09
65283 | Product Action (Wkrs) | Princeton, IN | 02/18/09 | 02/17/09
65284 | Oakhurst Textiles, Inc. (Comp) | Browns Summit, NC | 02/18/09 | 02/17/09
65285 | May and Scofield (Comp) | Fowlerville, MI | 02/18/09 | 02/16/09
65286 | Ford Motor Company/Sterling Axle Plant (UAW) | Sterling Heights, MI | 02/18/09 | 01/17/09
65287 | Doe Run Company (The) (State) | St. Louis, MO | 02/18/09 | 01/29/09
65288 | Caliber Auto Transfer of Detroit, Wayne Yard (State) | Edmond, OK | 02/18/09 | 01/23/09
65289 | Parkdale Mills, Inc. (Comp) | Gastonia, NC | 02/18/09 | 02/17/09
65290 | Paragon Molds Corporation (State) | Fraser, MI | 02/18/09 | 01/17/09
65291 | Bassett Furniture Outlet (Wkrs) | Bassett, VA | 02/18/09 | 02/18/09
65292 | Sunright/KESI (Wkrs) | Tempe, AZ | 02/18/09 | 02/05/09
65293 | Bowe Industries (Wkrs) | Glendale, NY | 02/18/09 | 02/01/09
65294 | Iowa Precision Ind. (Wkrs) | Cedar Rapids, IA | 02/18/09 | 02/17/09
65295 | Jeld-Wen-Hawkin's Windows Div. (Wkrs) | Hawkins, WI | 02/18/09 | 02/16/09
65296 | ITW IMPRO (Wkrs) | Mokena, IL | 02/19/09 | 02/18/09
65297 | Hewlett Packard Caribe, BV, LLC (State) | Aguadilla, PR | 02/19/09 | 02/18/09
65298 | Ferraz Shawmut, LLC (Comp) | Newburyport, MA | 02/19/09 | 02/04/09
65299 | United States Steel Great Lakes Works (USW) | Ecorse, MI | 02/19/09 | 02/18/09
65300 | Tube City IMS, Inc. (USW) | Ecorse, MI | 02/19/09 | 02/18/09
65301 | Richland Manufacturing (State) | Olney, IL | 02/19/09 | 02/18/09
65302 | Miller Products Corporation (Comp) | Grand Rapids, MI | 02/19/09 | 02/06/09
65303 | Hospira, Inc. (Comp) | Morgan Hill, CA | 02/19/09 | 02/13/09
65304 | Tecumseh Power Company—Dunlap Ops (Comp) | Dunlap, TN | 02/19/09 | 02/02/09
65305 | Samuel Steel Pickling Company (Wkrs) | Twinsburg, OH | 02/19/09 | 02/17/09
65306 | Product Action International, LLC (Wkrs) | Indianapolis, IN | 02/19/09 | 02/18/09
65307 | Syris Technologies (USW) | Kenton, OH | 02/19/09 | 01/30/09
65308 | Edscha-NA (Jackson Automotive) (Wkrs) | Pontiac, MI | 02/19/09 | 02/04/09
65309 | ITW Paslode (Comp) | Terrell, TX | 02/19/09 | 02/18/09
65310 | Micro Tool and Manufacturing, Inc. (Comp) | Meadville, PA | 02/19/09 | 02/19/09
65311 | Caterpillar, Inc. (UAW) | Peoria, IL | 02/19/09 | 02/04/09
65312 | Brown Shoe (Union) | Frederick­town, MO | 02/19/09 | 02/10/09
65313 | Delphi Packard Electric System (IUECWA) | Warren, OH | 02/19/09 | 02/16/09
65314 | Kennametal, Inc. (UE) | Greenfield, MA | 02/19/09 | 01/26/09
65315 | Davis International (Wkrs) | West Point, MS | 02/19/09 | 02/13/09
65316 | Paige Electric Company, L.P. (Comp) | McConnells­burg, PA | 02/20/09 | 02/19/09
65317 | Greenkote IPC (SEIU) | St. Louis, MO | 02/20/09 | 02/19/09
65318 | Americas Styrenics (USW) | Marietta, OH | 02/20/09 | 02/19/09
65319 | Maxcess International/Tidland Corp (Wkrs) | Camas, WA | 02/20/09 | 02/18/09
65320 | Auto Truck Transport (IAMAW) | Portland, OR | 02/20/09 | 02/19/09
65321 | Siemens E & A Inc. (Comp) | Urbana, OH | 02/20/09 | 02/19/09
65322 | Dodger Industries, Inc. (Comp) | Eldora, IA | 02/20/09 | 02/18/09
65323 | Woodbridge Corporation (Union) | Brodhead, WI | 02/20/09 | 02/16/09
65324 | General Aluminum Manufacturing Co. (Comp) | Richmond, IN | 02/20/09 | 02/17/09
65325 | Amphenol Backplane Systems (Comp) | Nashua, NH | 02/20/09 | 02/20/09

[FR Doc. E9-6290 Filed 3-23-09; 8:45 am]

BILLING CODE 4510-FN-P